NUCLEAR REGULATORY COMMISSION

Sunshine Act Meeting

AGENCY: Nuclear Regulatory Commission.

DATE: Week of October 4, 2004.

PLACE: Commissioners' Conference Room, 11555 Rockville Pike, Rockville, Maryland.

STATUS: Public and closed.

Schedule Changes

Week of October 4, 2004

Wednesday, October 6, 2004

1:30 p.m.: Discussion of Security Issues (Closed—Ex. 1). (This meeting was originally scheduled for October 7, 2004, at 2:30 p.m.)

Thursday, October 7, 2004

2:35 p.m.: Affirmation Session (Public Meeting) (Tentative). (This affirmation session was originally scheduled for 9:25 a.m. on October 7, 2004.)

a. State of Alaska Department of Transportation and Public Facilities (Confirmatory Order Modifying License); appeals of LBP-04-16 by NRS Staff and Licensee (Tentative).

b. Private Fuel Storage (Independent Spent Fuel Storage Installation) Docket No. 72-22-SFSI (Tentative).

c. USEC, Inc. (Tentative).

d. Citizen's Awareness Network's (CAN) Motion to dismiss the Yankee Rowe license termination proceeding or to re-notice It (Tentative).

e. Duke Energy Corp. (Catawba Nuclear Station, Units 1 and 2); Licensing Board's certification of its ruling on “need to know“ during discovery (Tentative).

f. Final Rulemaking to Add New Section 10 CFR 50.69, “Risk-Informed Categorization and Treatment of Structures, Systems and Components for Nuclear Power Reactors” (Tentative).

10:30 a.m.: Discussion of Security Issues (Closed—Ex. 1).

1 p.m.: Discussion of Security Issues (Closed—Ex. 1).

*The schedule for Commission meetings is subject to change on short notice. To verify the status of meetings call (recording)—(301) 415-1292. Contact person for more information: Dave Gamberoni, (301) 415-1651.

The NRC Commission Meeting Schedule can be found on the Internet at: www.nrc.gov/what-we-do/policy-making/schedule.html.

The NRC provides reasonable accommodation to individuals with disabilities where appropriate. If you need a reasonable accommodation to participate in these public meetings, or need this meeting notice or the transcript or other information from the public meetings in another format (e.g., braille, large print), please notify the NRC's Disability Program Coordinator, August Spector, at (301) 415-7080, TDD: (301) 415-2100, or by e-mail at aks@nrc.gov. Determinations on requests for reasonable accommodation will be made on a case-by-case basis.

This notice is distributed by mail to several hundred subscribers; if you no longer wish to receive it, or would like to be added to the distribution, please contact the Office of the Secretary, Washington, DC 20555, (301) 415-1969. In addition, distribution of this meeting notice over the Internet system is available. If you are interested in receiving this Commission meeting schedule electronically, please send an electronic message to dkw@nrc.gov.

Dated: October 5, 2004.
Dave Gamberoni,
Office of the Secretary.

[FR Doc. 04-22783 Filed 10-6-04; 9:41 am]

BILLING CODE 7590—01—M